Title 3—

The President

Proclamation 9247 of April 1, 2015

National Cancer Control Month, 2015

By the President of the United States of America

A Proclamation

For generations, the United States has been committed to combating cancer. It is a battle fought by our finest medical researchers, devoted health care professionals, and the many loved ones who have known the pain of this disease. Over decades, our Nation has made extraordinary progress. The overall rates of cancer deaths are decreasing for both women and men, and most survivors live longer and enjoy a better quality of life than ever before. Still, cancer remains the second most common cause of death in America, and there is more work to do. This month, we stand with all those touched by cancer and redouble our efforts to prevent, detect, and treat this disease.

All people can take steps to reduce their chances of developing cancer. Maintaining a healthy weight, protecting skin from exposure to ultraviolet radiation, and limiting alcohol consumption can help individuals live healthier lives. Because cigarettes are a major cause of cancer, quitting smoking and reducing exposure to secondhand smoke can also decrease risk. For advice on how to quit smoking, go to www.SmokeFree.gov or call 1-800-QUIT-NOW. I also encourage Americans to visit www.Cancer.gov for more information on cancer prevention.

When cancer is found in an early stage, it can be easier to treat and the chances of survival often increase. My Administration has fought to make this possible for more Americans. Protections under the Affordable Care Act require most insurance plans to cover recommended preventive services without copays, including some cancer screenings for qualifying individuals. These protections also eliminate annual and lifetime dollar limits on coverage and prohibit insurers from denying coverage because of pre-existing conditions, including cancer.

New technologies and strategic investments have made the difference between life and death for many of today's cancer patients. But as Americans, we have never been satisfied to rest on the accomplishments of our past; we reach for the future and stretch the boundaries of what is possible. That is why earlier this year, I announced my plan to lead a new era of medicine—one that delivers the right treatment at the right moment and brings us closer to curing cancer in our time. By investing in new research methods that will enable clinicians to tailor treatments to individual patients, the Precision Medicine Initiative will revolutionize how our Nation combats disease.

As we continue the urgent work of improving research, treatment, and care, let us remember those lost to cancer. During National Cancer Control Month, we recognize all who dedicate their lives to advancing the fight against this disease, and we recommit to achieving a future free from cancer in all its forms.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2015 as National Cancer Control Month. I encourage citizens, government agencies, private businesses, nonprofit organizations, and other interested groups to join in activities that will increase awareness of what Americans can do to prevent and control cancer.

IN WITNESS WHEREOF, I have hereunto set my hand this first day of April, in the year of our Lord two thousand fifteen, and of the Independence of the United States of America the two hundred and thirty-ninth.

[FR Doc. 2015-08030

Filed 4-3-15; 11:15 am]

Billing code 3295-F5